DEPARTMENT OF HEALTH AND HUMAN SERVICES

Centers for Medicare & Medicaid Services

Medicaid Program; Notice of Single-Source Grant Award to the States of Alabama, Louisiana, and Mississippi for the Grant Entitled “Deficit Reduction Act-Hurricane Katrina Healthcare Related Provider Stabilization”

AGENCY: Centers for Medicare & Medicaid Services (CMS).

ACTION: Single-Source Non-Competitive Supplemental Awards.

Funding Amount: $60,000,000.

Period of Performance: June 18, 2007—September 30, 2009.

CFDA: 93.779.

Authority: Section 6201(a)(4) of the Deficit Reduction Act of 2005 (DRA).

Purpose

The Secretary has authorized an additional $60 million in supplemental DRA grant funds to be made available to the States of Alabama, Louisiana, and Mississippi. The methodology is based on the relative share of each eligible general acute care hospital's, inpatient psychiatric facility's (IPF), community mental health center's (CMHC) and skilled nursing facility's (SNF) total Medicare inpatient payments in the FEMA designated counties in calendar year 2006 (the latest and most complete year of Medicare billing data available to CMS). As a result, this funding is being allocated for each State in the following proportions: 44 percent to Louisiana ($26,223,040), 38 percent to Mississippi ($23,243,995) and 17 percent to Alabama ($10,532,965).

This supplemental grant program is to fund State payments to general, acute care hospitals, IPFs, CMHCs, and SNFs in impacted communities that face financial pressures because of changing wage rates that are not yet reflected in Medicare PPS payment methodologies.

The grant funds must be used by the States to make payments to all Medicare participating general acute care hospitals, IPFs, CMHCs and SNFs that are currently paid under a Medicare PPS in the impacted communities. States have some flexibility in determining the methodology to determine the timing and amount of provider payments, but the methodology must reflect each provider's relative share of total Medicare payments during a specified period of time.

Grant funds may not be distributed to general acute care hospitals, IPFs, CMHCs and SNFs that are not in operation. States' payment methodologies should specify the relevant time periods and any other factors that will be considered in distributing available grant funds according to the principles specified above, and are subject to approval by CMS.

Under the authority of section 6201(a)(4) of the DRA of 2005, the Secretary, Department of Health and Human Services, has invoked his authority to restore health care in impacted communities affected by Hurricane Katrina by offering this unique funding opportunity which will enable States to make payments to assist general acute care hospitals, IPFs, CMHCs, and SNFs that are paid under a Medicare PPS, with the financial pressures that may result from changing wage rates in those impacted communities.

Louisiana, Mississippi and Alabama are the only states with knowledge and ability to administer a grant designed to affect impacted communities in their states. For the reasons cited above, the Secretary has directed the CMS to offer supplemental single-source awards to the States of Louisiana, Alabama and Mississippi.

FOR FURTHER INFORMATION CONTACT: Wendy J. Taparanskas, Ph.D., Health Insurance Specialist, Office of the Center Director, Centers for Medicaid and State Operations, Centers for Medicare & Medicaid Services, Mail Stop S2-26-12, 7500 Security Boulevard, Baltimore, MD 21244, (410) 786-5245.

Authority: Section 6201(a)(4) of the Deficit Reduction Act of 2005 (DRA).

Dated: July 2, 2007.
Leslie V. Norwalk,
Acting Administrator, Centers for Medicare & Medicaid Services.

[FR Doc. E7-16579 Filed 8-23-07; 8:45 am]

BILLING CODE 4120-01-P